DEPARTMENT OF JUSTICE

Notice of Lodging of Consent Decree Under the Comprehensive Environmental Response, Compensation, and Liability Act

Notice is hereby given that on July 22, 2002, a proposed consent decree in United States v. Axel Johnson Inc. et al., Civil Action No. 7:00-CV-252-F(1), was lodged with the United States District Court for the Eastern District of North Carolina.

In this action the United States sought under section 107(a) of CERCLA, 42 U.S.C. 9607(a), the recovery of past response costs with respect to the Potter Septic Tank Service Pits Superfund Site, located in the Town of Sandy Creek, Brunswick County, North Carolina. The defendants in the action are Axel Johnson Inc. and Sprague Energy Corp. The consent decree resolves claims for past and future response costs at the Site against both defendants. Under the consent decree, defendants have agreed to pay $5,700,000 to the Superfund toward EPA's past and future response costs.

The Department of Justice will receive comments relating to the proposed consent decree for a period of thirty (30) days from the date of this publication. Comments should be addressed to the Assistant Attorney General, Environment and Natural Resources Division, PO Box 7611, U.S. Department of Justice, Washington, DC 20044-7611, and should refer to United States v. Axel Johnson Inc. et al., DJ # 90-11-3-06749.

The proposed consent decree may be examined at the office of the United States Attorney for the Eastern District of North Carolina, 310 New Bern Avenue, Suite 800, Federal Building, Raleigh, NC 27601, and at the Region 4 office of the Environmental Protection Agency, Atlanta Federal Center, 61 Forsyth Street, Atlanta, GA 30303. A copy of the proposed consent decree may also be obtained by mail from the Consent Decree Library, PO Box 7611, U.S. Department of Justice, Washington, DC 20044-7611, or by faxing a request to Tonia Fleetwood, fax no. (202) 514-0097, phone confirmation number (202) 514-1547. In requesting a copy, please enclose a check in the amount of $5.75 (25 cents per page reproduction cost) payable to the U.S. Treasury. The check should refer to United States v. Axel Johnson Inc. et al., DJ # 90-11-3-06749.

Ellen M. Mahan,
Assistant Chief, Environmental Enforcement Section, Environment and Natural Resources Division.

[FR Doc. 02-19384 Filed 7-31-02; 8:45 am]

BILLING CODE 4410-15-M